DEPARTMENT OF TRANSPORTATION

Federal Transit Administration

[FTA Docket No. FTA-2014-0009]

Notice of Request for Comments on Updates to National Transit Database Safety Information Collection

AGENCY: Federal Transit Administration, DOT.

ACTION: Notice of Request for Comments.

SUMMARY: In accordance with the Paperwork Reduction Act of 1995, this notice announces the intention of the Federal Transit Administration (FTA) to request the Office of Management and Budget (OMB) to approve the revision of the currently approved information collection: 49 U.S.C. 5335(a) and (b) National Transit Database (NTD). The guidance changes in this notice primarily relate to urbanized area transit providers.

DATES: Comments must be submitted before October 20, 2014.

ADDRESSES: To ensure that your comments are not entered more than once into the docket, submit comments identified by the docket number by only one of the following methods:

1. Web site: www.regulations.gov. Follow the instructions for submitting comments on the U.S. Government electronic docket site. All electronic submissions must be made to the U.S. Government electronic docket site at www.regulations.gov. Commenters should follow the directions below for mailed and hand-delivered comments.

2. Fax: 202-366-7951.

3. Mail: U.S. Department of Transportation, 1200 New Jersey Avenue SE., Docket Operations, M-30, West Building, Ground Floor, Room W12-140, Washington, DC 20590-0001.

4. Hand Delivery: U.S. Department of Transportation, 1200 New Jersey Avenue SE., Docket Operations, M-30, West Building, Ground Floor, Room W12-140, Washington, DC 20590-0001 between 9 a.m. and 5 p.m., Monday through Friday, except federal holidays.

5. Instructions: You must include the agency name and docket number, FTA-2014-0009 for this notice, at the beginning of your comments. Submit two copies of your comments if you submit them by mail. For confirmation that FTA has received your comments, include a self-addressed stamped postcard. Note that all comments received, including any personal information, will be posted and will be available to Internet users, without change, to www.regulations.gov. You may review DOT's complete Privacy Act Statement in the Federal Register published April 11, 2000, (65 FR 19477), or at www.regulations.gov.

6. Docket: For access to the docket to read background documents and comments received, go to www.regulations.gov at any time. Background documents and comments received may also be viewed at the U.S. Department of Transportation, 1200 New Jersey Avenue SE., Docket Operations, M-30, West Building, Ground Floor, Room W12-140, Washington, DC 20590-0001 between 9 a.m. and 5 p.m., Monday through Friday, except federal holidays.

FOR FURTHER INFORMATION CONTACT: Keith R. Gates, National Transit Database Program Manager, FTA Office of Budget and Policy, (202) 366-1794, or email: keith.gates@dot.gov.

SUPPLEMENTARY INFORMATION: Interested parties are invited to send comments regarding any aspect of this information collection, including: (1) The necessity and utility of the information collection for the proper performance of the functions of FTA; (2) ways to enhance the quality, utility, and clarity of the collected information; and (3) ways to minimize the collection burden without reducing the quality of the collected information. Comments submitted in response to this notice will be summarized and/or included in a final notice to be published in the Federal Register along with FTA responses, where appropriate.

Title: 49 U.S.C. 5335(a) and (b) National Transit Database. (OMB Number: 2132-0008).

Background: Section 5335(a) and (b) of title 49, United States Code, requires the Secretary of Transportation to maintain a reporting system, using a uniform system of accounts, to collect financial and operating information from the nation's public transportation systems. Congress authorized the NTD to be the repository of national transit data to support public transportation service planning. FTA administers the NTD to meet these requirements, and has collected data for over 30 years. The NTD is comprised of the Annual, Rural, Monthly, and Safety & Security modules. This notice proposes various changes specific to the Safety & Security module.

Approximately 550 urban transit systems currently report to the NTD Safety & Security Module. Each system provides an annual report on the total number of security personnel, and an annual CEO certification of the safety data. Each month, transit systems provide a summary report of all minor fires and all incidents resulting in single-person injuries due to slips, falls, or electrical shocks. Systems must also provide a major incident report within 30 days of any incident involving one or more fatalities, one or more injuries, or total property damage in excess of $25,000.

In sum, the 550 urban transit systems report about 6,000 major incident reports per year in addition to 12 minor incident summary reports per year. This reporting activity is within the level that received Paperwork Reduction Act (PRA) approval as part of the entire NTD PRA notice published in the Federal Register on November 7, 2011 (76 FR 6881).

This notice proposes various changes to the NTD Safety & Security module that would take effect with the CY 2015 data reporting cycle. FTA seeks comment on whether, and how, agencies reporting this data might experience difficulties meeting the revised requirements.

The U.S. Government Accountability Office (GAO) and the U.S. Department of Transportation (DOT) Office of the Inspector General (OIG) reviewed FTA procedures for collecting safety data from transit providers and recommended that FTA develop and implement appropriate internal control activities to ensure data entered into the State Safety Oversight (SSO) reporting templates are accurate. Additionally, the GAO and the OIG recommended appropriate internal controls over the methods used to review and reconcile the SSO agency data with other data sources. The changes proposed here address these recommendations and will enhance non-rail NTD safety data reporting to allow better time series analysis and evaluation of safety trends. These changes also support requirements in Section 20025(b) of the Moving Ahead for Progress in the 21st Century Act (MAP-21) that FTA improve the accuracy and reliability of public transportation safety incident data. Aligning the NTD and the SSO reporting thresholds and definitions will assist FTA in meeting this requirement and will enable analysis and evaluation of safety trends.

Although this notice proposes changes intended to better align the NTD safety data collection with data that is collected by State Safety Oversight organizations, it is independent of the larger rulemaking process that is underway to define FTA safety regulatory procedures. It is, likewise, not a part of transit asset management rulemaking or any other FTA rulemaking activities. Nothing in this notice should be construed as being a preliminary part of other FTA oversight activities.

FTA proposes NTD reporting changes as follows:

1. Change in nomenclature, incidents reported to the NTD will now be called “events”;

2. Change in location criteria for reportable events;

3. Change in evacuation reporting criteria to include self-evacuations and maintenance-related evacuations;

4. Change in derailment reporting to include yard derailments;

5. Change in collision reporting requirements to include collisions at grade crossings;

6. Change in collision reporting requirements to include all rail collisions with individuals;

7. Change in collision reporting requirements to include all collisions between rail vehicles;

8. Change in vehicle event reporting to include indication of “tow-away” occurrence;

9. Change in vehicle event reporting to expand options for reporting “other motor vehicles”;

10. Change in reporting requirements to expand options for reporting “type of fire”; and

11. Change in reporting requirements to add latitude and longitude fields for events.

Detailed description of proposed changes:

1. Reportable Event (Clarification)

Incidents reported to the NTD and the SSO will be called “events.” FTA is suggesting this change because other uses of the term “incident” are defined as an occurrence that is less severe than an accident or imply a security event. “Event” in this case is intended to include planned and unplanned events that are required to be reported to the NTD. This change is necessary to provide better alignment with nomenclature used in other transportation modes, and to provide clarity during data analysis conducted to identify safety trends.

2. Change in Location Criteria

The NTD currently includes events that are “related to or affect revenue service.” Consistent with data reported to the SSO program, FTA proposes to revise these applicability criteria to “an event occurring on transit right-of-way, in a transit revenue facility, in a transit maintenance facility, or involving a transit revenue vehicle, excluding occupational safety events occurring in administrative buildings.” Application of these new criteria would mean that the NTD will no longer collect events at bus stops that are not on real property owned or controlled by the agency, unless the event involves a transit revenue vehicle, or boarding/alighting from a transit revenue vehicle.

3. Evacuations

FTA proposes to revise the definition of evacuation to include patron/passenger self-evacuations and evacuations for service or maintenance-related issues when passengers are evacuated to locations where they could potentially be exposed to hazardous situations, such as a rail right-of-way, or a highway shoulder lane. These events would require a major event report and are consistent with data reported to the SSO program.

4. Derailments

FTA proposes to expand the mandatory reporting of derailments to include yard derailments. Yard derailments would be reportable regardless of injuries, fatalities, or property damage.

5. Collisions at Grade Crossings

FTA proposes to make all collisions at grade crossings reportable to the NTD in order to improve event reporting consistency. Transit agencies are already required to report and investigate these events under the existing the SSO Program.

6. Collision With an Individual on a Rail Right-of-Way

FTA proposes to change the NTD thresholds to capture all rail collisions with individuals, regardless of injuries or fatalities; as collected in the SSO program. Collisions with individuals that do not result in an injury would be reportable to the NTD.

7. Rail to Rail Collisions

FTA proposes to require a major NTD event report for every event involving a collision between rail vehicles. This would extend the existing SSO threshold to the NTD to support improvements in data quality and reporting. Transit agencies are already required to report and investigate these events under the existing SSO program. This category is not intended to capture normal connection of vehicles.

8. Addition of “Tow-Away”

FTA proposes to add a “tow-away” checkbox to the S&S-40 reporting form to make vehicle event reporting compatible with the accident reporting threshold used by the Federal Motor Carrier Safety Administration.

9. Revision to Non-Rail “Other Motor Vehicle” and “Collision Event” Screens

FTA proposes to add selections for “other motor vehicle type” to improve FTA's and transit agencies' ability to conduct trend analysis of non-rail vehicle collisions. New selections would include: collision with an automobile, moped, scooter, motorcycle, charter bus, or school bus as a collision with a Motor Vehicle; collision with another agency's transit vehicle as a collision with a Motor Vehicle; collision with another of your transit agency's vehicles as a collision with a transit vehicle.

10. Revision to Non-Rail “Type of Fire” Categories on Fire Event Detail Screens

FTA proposes to add selections for “type of fire” to the non-rail fire event detail screens to provide better national-level information for vehicle fire prevention and mitigation.

11. Collect New Data on Geographic Location of Events

FTA proposes to add fields for latitude and longitude of events. This change is necessary for FTA to comply with OMB's “Open Data Policy-Managing Information as an Asset memorandum, M-13-13”, which will provide for the creation and maintenance of high-quality, nationwide transportation data in the public domain.

FTA has determined that items 1, 8, and 9 above would not require any additional reporting effort. Items 3, 4, 5, 6, 7, and 10 would require that some additional data be reported, but the increase is expected to be minimal as situations where these events are not reported under current rules are relatively rare. Item 11, reporting latitude and longitude of events, is a new requirement for the NTD, though it is now an ubiquitous feature of other accident investigation reporting. FTA holds that this additional burden is more than offset by reductions in reporting that accrue under item 2, which eliminates the need to report events that occur outside this more narrowly defined area of interest. The impact of the changes proposed here on the reporting burden is expected to be neutral and to remain within the currently approved Paperwork Reduction Act collection.

Therese W. McMillan,
Acting Administrator, Federal Transit Administration.

[FR Doc. 2014-19787 Filed 8-20-14; 8:45 am]

BILLING CODE 4910-57-P